NUCLEAR REGULATORY COMMISSION

[NRC-2021-0162]

Safety Review of Light-Water Power-Reactor Construction Permit Applications

AGENCY: Nuclear Regulatory Commission.

ACTION: Draft interim staff guidance; reopening of comment period.

SUMMARY: On December 14, 2021, the U.S. Nuclear Regulatory Commission (NRC) solicited public comment on its draft interim staff guidance (ISG), “Safety Review of Light-Water Power-Reactor Construction Permit Applications.” The public comment period closed on January 28, 2022. The NRC has decided to reopen the comment period for this draft ISG for an additional 15 days to receive comments on two topics addressed by comments submitted during the initial comment period.

DATES: The comment period for the document published on December 14, 2021 (86 FR 71101) has been reopened. Submit comments by May 23, 2022. Comments received after this date will be considered if it is practical to do so, but the Commission is able to ensure consideration only for comments received before this date.

ADDRESSES: You may submit comments by any of the following methods; however, the NRC encourages electronic comment submission through the Federal rulemaking website:

• Federal rulemaking website: Go to https://www.regulations.gov and search for Docket ID NRC-2021-0162. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Carolyn Lauron, Office of Nuclear Reactor Regulation, U.S. Nuclear Regulatory Commission, Washington, DC 20555-0001, telephone: 301-415-2736, email: Carolyn.Lauron@nrc.gov.

SUPPLEMENTARY INFORMATION:

I. Obtaining Information and Submitting Comments

A. Obtaining Information

Please refer to Docket ID NRC-2021-0162 when contacting the NRC about the availability of information for this action. You may obtain publicly available information related to this action by any of the following methods:

• Federal Rulemaking Website: Go to https://www.regulations.gov and search for Docket ID NRC-2021-0162.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The draft ISG for the “Safety Review of Light-Water Power-Reactor Construction Permit Applications” is available in ADAMS under Accession No. ML21165A157.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays.

B. Submitting Comments

The NRC encourages electronic comment submission through the Federal rulemaking website (https://www.regulations.gov). Please include Docket ID NRC-2021-0162 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On December 14, 2021, the NRC solicited comments on its draft ISG, “Safety Review of Light-Water Power-Reactor Construction Permit Applications.” The purpose of this ISG is to clarify existing guidance and to assist the NRC staff in determining whether an application to construct a light-water power-reactor facility meets the minimum requirements to issue a construction permit. The public comment period closed on January 28, 2022. The NRC has decided to reopen the public comment period on this document until May 23, 2022 to receive comments on two topics addressed by comments submitted during the initial comment period.

III. Comments Requested

In considering the comments submitted during the initial comment period, the NRC staff noted two topics that would benefit from additional public feedback and consideration before the ISG is issued final. The NRC staff requests public comments on the following questions:

1. If the NRC were to develop an acceptance review template for light-water power-reactor construction permit applications, what specific information should the template provide that is not currently available in the draft ISG or the NRC's primary review guidance for a construction permit application, NUREG-0800, “Standard Review Plan for the Review of Safety Analysis Reports for Nuclear Power Plants: [Light-Water Reactor] Edition?”

2. Are there specific review areas where the draft ISG requests a level of detail in the construction permit application that is inconsistent with previous construction permit applications? If so, which specific review areas are involved and how is the level of detail inconsistent with previous construction permit applications?

Comments in response to these questions and on the draft ISG should be submitted in accordance with the instructions described in Section I.B.

Dated: May 2, 2022.
For the Nuclear Regulatory Commission.
Brian W. Smith,
Director, Division of New and Renewed Licenses, Office of Nuclear Reactor Regulation.

[FR Doc. 2022-09702 Filed 5-5-22; 8:45 am]

BILLING CODE 7590-01-P